DEPARTMENT OF HOMELAND SECURITY

Federal Emergency Management Agency

[Docket ID FEMA-2008-0010]

Board of Visitors for the National Fire Academy

AGENCY: Federal Emergency Management Agency, DHS.

ACTION: Committee management; notice of open federal advisory committee meeting.

SUMMARY: The Board of Visitors for the National Fire Academy (Board) will meet via teleconference on April 7, 2016. The meeting will be open to the public.

DATES: The meeting will take place on Thursday, April 7, 2016, from 2 to 4 p.m. Eastern Daylight Time. Please note that the meeting may close early if the Board has completed its business.

ADDRESSES: Members of the public who wish to participate in the teleconference should contact Ruth MacPhail as listed in the FOR FURTHER INFORMATION CONTACT section by close of business April 5, 2016, to obtain the call-in number and access code. For information on services for individuals with disabilities or to request special assistance, contact Ruth MacPhail as soon as possible.

To facilitate public participation, we are inviting public comment on the issues to be considered by the Board as listed in the SUPPLEMENTARY INFORMATION section. Comments must be submitted in writing no later than April 5, 2016, and must be identified by Docket ID FEMA-2008-0010 and may be submitted by one of the following methods:

• Federal eRulemaking Portal: http://www.regulations.gov. Follow the instructions for submitting comments.

• Email FEMA-RULES@fema.dhs.gov. Include the docket number in the subject line of the message.

• Mail/Hand Delivery Ruth MacPhail, 16825 South Seton Avenue, Emmitsburg, Maryland 21727.

Instructions All submissions received must include the words “Department of Homeland Security” and the Docket ID for this action. Comments received will be posted without alteration at http://www.regulations.gov, including any personal information provided.

Docket: For access to the docket to read background documents or comments received by the National Fire Academy Board of Visitors, go to http://www.regulations.gov, click on “Advanced Search,” then enter “FEMA-2008-0010” in the “By Docket ID” box, then select “FEMA” under “By Agency,” and then click “Search.”

FOR FURTHER INFORMATION CONTACT:

Alternate Designated Federal Officer: Kirby E. Kiefer, telephone (301) 447-1117, email Kirby.Kiefer@fema.dhs.gov.

Logistical Information: Ruth MacPhail, telephone (301) 447-1333, fax (301) 447-1834, and email Ruth.Macphail@fema.dhs.gov.

SUPPLEMENTARY INFORMATION: Notice of this meeting is given under the Federal Advisory Committee Act, 5 U.S.C. Appendix.

Purpose of the Board

The purpose of the Board is to review annually the programs of the National Fire Academy (NFA) and advise the Administrator of the Federal Emergency Management Agency (FEMA), through the United States Fire Administrator, on the operation of the NFA and any improvements therein that the Board deems appropriate. In carrying out its responsibilities, the Board examines NFA programs to determine whether these programs further the basic missions that are approved by the Administrator of FEMA, examines the physical plant of the NFA to determine the adequacy of the NFA's facilities, and examines the funding levels for NFA programs. The Board submits a written annual report through the United States Fire Administrator to the Administrator of FEMA. The report provides detailed comments and recommendations regarding the operation of the NFA.

Agenda

1. The Board will receive updates on U.S. Fire Administration data, research, and response support initiatives.

2. The Board will discuss deferred maintenance and capital improvements on the National Emergency Training Center campus and Fiscal Year 2016 Budget Request/Budget Planning.

3. The Board will review and give feedback on NFA program activities, including:

• Fire and Emergency Services Higher Education (FESHE) Recognition Program update, a certification program acknowledging that a collegiate emergency services degree meets the minimum standards of excellence established by FESHE development committees and the NFA;

• Online training—evolution and current state of the NFA distance learning program: self-study, mediated and blended;

• BYOD (Bring Your Own Device) status report and technical upgrades to classrooms to support BYOD;

• Managing Officer Program Status—program review as it completes the first year of a two-year program cycle;

• Curriculum and Instruction program activities including conversion of existing material to new delivery modes;

• Executive Fire Officer (EFO) Program updates and program direction discussion;

• EFO Symposium scheduled for September 8-10, 2016—report on planned agenda;

• National Professional Development Symposium scheduled for June 26-29, 2016—report on planned agenda;

• Staffing updates;

• NFA Budget status and forecast;

• Professional Development Initiative Subcommittee status report, established to bring the FESHE and Training Resources and Data Exchange groups together for a central point for coordination of professional development tasks;

• Whole Community Subcommittee status report, established to define the “Whole Community” concept and develop a strategy for sharing of information and programmatic initiatives and/or best practices to encourage “whole community” preparedness and prevention; and

• National Fire Incident Reporting System (NFIRS) Subcommittee status report, established to review the coding scheme of NFIRS for accuracy, timeliness, user friendliness, and module relevancy.

There will be a 10-minute comment period after each agenda item; each speaker will be given no more than 2 minutes to speak. Please note that the public comment period may end before the time indicated, following the last call for comments. Contact Ruth MacPhail to register as a speaker. Meeting materials will be posted at http://www.usfa.fema.gov/nfa/about/bov.shtm by March 31, 2016.

Dated: March 11, 2016.
Kirby E. Kiefer,
Acting Superintendent, National Fire Academy, United States Fire Administration, Federal Emergency Management Agency.

[FR Doc. 2016-06039 Filed 3-16-16; 8:45 am]

BILLING CODE 9111-45-P